DEPARTMENT OF ENERGY

Federal Energy Regulatory Commission

Combined Notice of Filings #1

Take notice that the Commission received the following electric rate filings:

Docket Numbers: ER10-3168-006; ER13-821-002.

Applicants: ArcLight Energy Marketing, LLC, Scrubgrass Generating Company, L.P.

Description: Notice of Non-Material Change in Status of ArcLight Energy Marketing, LLC, et. al.

Filed Date: 5/22/13.

Accession Number: 20130522-5067.

Comments Due: 5 p.m. ET 6/12/13.

Docket Numbers: ER13-62-001.

Applicants: NorthWestern Corporation.

Description: NorthWestern Corporation submits Request for Partial Waiver and Extension of Time to Submit Compliance Filing.

Filed Date: 5/20/13.

Accession Number: 20130520-5203.

Comments Due: 5 p.m. ET 6/10/13.

Docket Numbers: ER13-83-002.

Applicants: Duke Energy Progress, Inc., Duke Energy Carolinas, LLC.

Description: OATT Order No. 1000 Second Compliance Filing—Carolinas to be effective 12/31/9998.

Filed Date: 5/22/13.

Accession Number: 20130522-5023.

Comments Due: 5 p.m. ET 6/21/13.

Docket Numbers: ER13-738-001; ER11-2954-004; ER10-1277-004; ER10-1186-004; ER11-3097-005; ER10-1211-004; ER10-1212-004; ER10-1188-004; ER11-4626-003; ER10-1329-005; ER10-1187-003.

Applicants: DTE Electric Company, DTE Calvert City, LLC, DTE East China, LLC, DTE Energy Supply, Inc., DTE Energy Trading, Inc., DTE Pontiac North LLC, DTE River Rouge No. 1, LLC, DTE Stoneman, LLC, Mt. Poso Cogeneration Company, LLC, St. Paul Cogeneration, LLC, Woodland Biomass Power Ltd.

Description: Notice of Change in Status of DTE Electric Company, et al.

Filed Date: 5/22/13.

Accession Number: 20130522-5066.

Comments Due: 5 p.m. ET 6/12/13.

Docket Numbers: ER13-1422-001.

Applicants: Ebensburg Power Company.

Description: Inquiry Response to be effective 5/12/2013.

Filed Date: 5/21/13.

Accession Number: 20130521-5167.

Comments Due: 5 p.m. ET 6/11/13.

Docket Numbers: ER13-1536-000.

Applicants: Exelon Generation Company, LLC.

Description: Tariff Record Compliance Filing to be effective 5/22/2013.

Filed Date: 5/21/13.

Accession Number: 20130521-5148.

Comments Due: 5 p.m. ET 6/11/13.

Docket Numbers: ER13-1537-000.

Applicants: Public Service Company of Colorado.

Description: 2013-5-22_332-PSCo-TSGT 110 Agrmt 0.0.0 to be effective 3/1/2013.

Filed Date: 5/22/13.

Accession Number: 20130522-5026.

Comments Due: 5 p.m. ET 6/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2013.
Nathaniel J. Davis, Sr.,
Deputy Secretary.

[FR Doc. 2013-12806 Filed 5-29-13; 8:45 am]

BILLING CODE 6717-01-P